NATIONAL SCIENCE FOUNDATION

Advisory Committee for Social, Behavioral and Economic Sciences; Notice of Meeting

In accordance with the Federal Advisory Committee Act (Pub. L. 92-463, as amended), the National Science Foundation (NSF) announces the following meeting:

Name and Committee Code: Advisory Committee for Social, Behavioral and Economic Sciences (#1171).

Date and Time:

November 2, 2017; 9:00 a.m. to 5:00 p.m.

November 3, 2017; 8:30 a.m. to 1:00 p.m.

Place: National Science Foundation, 2415 Eisenhower Avenue, Room W2210/W2220, Alexandria, VA 22314.

Type of Meeting: Open.

Contact Person: Dr. Deborah Olster, Office of the Assistant Director, Directorate for Social, Behavioral and Economic Sciences, National Science Foundation, 2415 Eisenhower Avenue, Alexandria, VA 22314; Telephone: 703-292-8700.

Summary of Minutes: Posted on SBE advisory committee Web site at: https://www.nsf.gov/sbe/advisory.jsp.

Purpose of Meeting: To provide advice and recommendations to the National Science Foundation on major goals and policies pertaining to Social, Behavioral and Economic Sciences Directorate (SBE) programs and activities.

Agenda

• SBE Directorate and Division Updates

• Graduate Training in the Behavioral and Social Sciences

• Social Science Surveys

• SBE Strategic Planning/Grand Challenges

• Science Communications

• Meeting with NSF Leadership

• Evidence-Based Policymaking

• Future Meetings, Assignments and Concluding Remarks

Dated: October 3, 2017.
Crystal Robinson,
Committee Management Officer.

[FR Doc. 2017-21553 Filed 10-5-17; 8:45 am]

BILLING CODE 7555-01-P